FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than January 28, 2020.

A. Federal Reserve Bank of Atlanta (Kathryn Haney, Assistant Vice President) 1000 Peachtree Street NE, Atlanta, Georgia 30309. Comments can also be sent electronically to Applications.Comments@atl.frb.org:

1. Kenneth Lee Barber, Villa Rica, Georgia; Greg Logan Lee, Birmingham, Alabama; Jeff Daniel Couey, Acworth, Georgia; Johnny Lee Blankenship, Douglasville, Georgia; Eric Leonard Johnson, Atlanta, Georgia; Paul David Orr, Fairburn, Georgia; and Douglas Craig Davidson, Johns Creek, Georgia; to acquire voting shares of Peoples Bankshares, Inc., and thereby indirectly acquire voting shares of The Peoples Bank, both of Eatonton, Georgia.

Board of Governors of the Federal Reserve System, January 8, 2020.
Yao-Chin Chao,
Assistant Secretary of the Board.

[FR Doc. 2020-00277 Filed 1-10-20; 8:45 am]

BILLING CODE P